DEPARTMENT OF COMMERCE

National Oceanic and Atmospheric Administration

[I.D. 060506C]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Sea Scallop Survey Advisory Panel in June, 2006 to consider actions affecting New England fisheries in the exclusive economic zone (EEZ). Recommendations from this group will be brought to the full Council for formal consideration and action, if appropriate.

DATES: This meeting will be held on Wednesday, June 28, 2006 at 8:30 a.m.

ADDRESSES: The meeting will be held in two locations. The meeting will start at the Dockside Repair, 14 Hervey Tichon Avenue, New Bedford, MA 02740; telephone: (508) 993-5300; fax: (508) 991-2226. Later in the day, the meeting will move to the Harbor Development Commission, 106 Co-op Wharf, New Bedford, MA 02740, telephone: (508) 961-3000; fax: (508) 979-1517.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The agenda will include a survey dredge workshop to identify ways to improve the performance and consistency of the NMFS survey dredge. The panel will hear and discuss a presentation on compatibility, statistical design, and analysis of industry-based surveys to estimate scallop biomass and determine TACs. The panel will also approve terms of reference, agree on short and long-term work objectives, and choose a chair and vice-chair.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: June 6, 2006.
Tracey L. Thompson,
Acting Director, Office of Sustainable Fisheries, National Marine Fisheries Service.

[FR Doc. E6-9026 Filed 6-8-06; 8:45 am]

BILLING CODE 3510-22-S